DEPARTMENT OF THE INTERIOR

Bureau of Land Management

[UTU 1837 et al.]

Public Land Order No. 7537; Revocation of Forest Service Withdrawals; Utah

AGENCY: Bureau of Land Management, Interior.

ACTION: Public Land Order.

SUMMARY: This order revokes 7 Public Land Orders, 25 Secretarial Orders, and 2 Executive Orders in their entirety. The lands were withdrawn for Forest Service administrative sites, ranger stations, campgrounds, recreation areas, plant nurseries, a city watershed, roads, and a conservation center. The lands are no longer needed for the purposes for which they were withdrawn and the Forest Service has requested the revocations. There are approximately 13,822 acres involved in the revocations. The lands will be opened to mining and to such forms of disposition as may by law be made of National Forest System lands unless closed by overlapping withdrawals or other segregations of record.

EFFECTIVE DATE: October 15, 2002.

FOR FURTHER INFORMATION CONTACT: Rhonda Flynn, BLM Utah State Office, 324 South State Street, Salt Lake City, Utah 84111-2303, 801-539-4132. A copy of the orders being revoked is available from this location.

Order

By virtue of the authority vested in the Secretary of the Interior by Section 204 of the Federal Land Policy and Management Act of 1976, 43 U.S.C. 1714 (1994), it is ordered as follows:

1. The following Public Land Orders, Secretarial Orders, and Executive Orders are hereby each revoked in their entirety:

(a) Public Land Order Nos. 1084, 1715, 2400, 3928, 4102, 4115, and 4245.

(b) Secretarial Orders dated August 23, 1906, October 26, 1906, November 17, 1906, December 13, 1906, January 9, 1907, January 23, 1907, August 15, 1907, August 16, 1907, August 29, 1907, September 5, 1907, October 29, 1907, November 18, 1907, January 7, 1908, January 14, 1908, April 4, 1908, April 28, 1908, April 30, 1908, May 13, 1908, June 5, 1908, July 10, 1908, August 12, 1908, August 22, 1908, October 6, 1908, and two dated October 30, 1908.

(c) Executive Order dated June 6, 1906 and Executive Order No. 3852.

2. At 10 a.m. on October 15, 2002, the lands shall be opened to such forms of disposition as may by law be made of National Forest System lands, including location and entry under the United States mining laws, subject to valid existing rights, the provisions of existing withdrawals, other segregations of record, and the requirements of applicable law. Appropriation of lands described in this order under the general mining laws prior to the date and time of restoration is unauthorized. Any such attempted appropriation, including attempted adverse possession under 30 U.S.C. 38 (1994), shall vest no rights against the United States. Acts required to establish a location and to initiate a right of possession are governed by State law where not in conflict with Federal law. The Bureau of Land Management will not intervene in disputes between rival locators over possessory rights since Congress has provided for such determinations in local courts.

SUPPLEMENTARY INFORMATION: The Forest Service has determined that the withdrawals are no longer needed and has requested the revocations. The lands are located in several national forests throughout Utah.

Dated: August 28, 2002.
Rebecca W. Watson,
Assistant Secretary—Land and Minerals Management.

[FR Doc. 02-23190 Filed 9-11-02; 8:45 am]

BILLING CODE 3410-11-P